Proclamation 8530 of May 28, 2010

National Caribbean-American Heritage Month, 2010

By the President of the United States of America

A Proclamation

Our Nation is linked to the Caribbean by our geography as well as our shared past and common aspirations. During National Caribbean-American Heritage Month, we pay tribute to the diverse cultures and immeasurable contributions of all Americans who trace their heritage to the Caribbean.

Throughout our history, immigrants from Caribbean countries have come to our shores seeking better lives and opportunities. Others were brought against their will in the bonds of slavery. All have strived to ensure their children could achieve something greater and have preserved the promise of America for future generations.

During the month of June, we also honor the bonds of friendship between the United States and Caribbean countries. This year’s devastating earthquake in Haiti has brought untold grief to the Haitian-American community, many who continue to mourn the loss of loved ones as they help rebuild their homeland. These families and individuals remain in our thoughts and prayers. The United States has proudly played a leading role in the international response to this crisis, which included vital contributions from countries throughout the Caribbean. As Haiti recovers, we will remain a steady and reliable partner.

This month, we celebrate the triumph of Caribbean Americans, a diverse community that encompasses many nationalities and languages. They have become leaders in every sector of American life while maintaining the varied traditions of their countries of origin. Caribbean Americans enrich our national character and strengthen the fabric of our culture, and we are proud they are part of the American family.

NOW, THEREFORE, I, BARACK OBAMA, President of the United States of America, by virtue of the authority vested in me by the Constitution and the laws of the United States, do hereby proclaim June 2010 as National Caribbean-American Heritage Month. I call upon all Americans to celebrate the history and culture of Caribbean Americans with appropriate ceremonies and activities.

IN WITNESS WHEREOF, I have hereunto set my hand this twenty-eighth day of May, in the year of our Lord two thousand ten, and of the Independence of the United States of America the two hundred and thirty-fourth.

[FR Doc. 2010-13674

Filed 6-4-10; 8:45 am]

Billing code 3195-W0-P